DEPARTMENT OF AGRICULTURE

Grain Inspection, Packers and Stockyards Administration

[03-01-A]

Opportunity for Designation in the Grand Forks (ND), Idaho, Lewiston (ID), Minnesota, Ohio Valley (IN), and Utah Areas, and Request for Comments on the Official Agencies Serving These Areas

AGENCY: Grain Inspection, Packers and Stockyards Administration, USDA.

ACTION: Notice.

SUMMARY: The designations of the official agencies listed below will end in September and November 2003. Grain Inspection, Packers and Stockyards Administration (GIPSA) is asking persons interested in providing official services in the areas served by these agencies to submit an application for designation. GIPSA is also asking for comments on the services provided by these currently designated agencies: Grand Forks Grain Inspection Department, Inc. (Grand Forks); Idaho Grain Inspection Service, Inc. (Idaho); Lewiston Grain Inspection Service, Inc. (Lewiston); Minnesota Department of Agriculture (Minnesota); Ohio Valley Grain Inspection, Inc. (Ohio Valley); and Utah Department of Agriculture and Food (Utah).

DATES: Applications and comments must be postmarked or electronically dated on or before April 1, 2003.

ADDRESSES: Submit applications and comments to USDA, GIPSA, Janet M. Hart, Chief, Review Branch, Compliance Division, STOP 3604, Room 1647-S, 1400 Independence Avenue, SW., Washington, DC 20250-3604; FAX 202-690-2755. If an application is submitted by FAX, GIPSA reserves the right to request an original application. All applications and comments will be made available for public inspection at Room 1647-S, 1400 Independence Avenue, SW, during regular business hours.

FOR FURTHER INFORMATION CONTACT: Janet M. Hart at 202-720-8525, e-mail Janet.M.Hart@usda.gov.

SUPPLEMENTARY INFORMATION: This Action has been reviewed and determined not to be a rule or regulation as defined in Executive Order 12866 and Departmental Regulation 1512-1; therefore, the Executive Order and Departmental Regulation do not apply to this Action.

Section 7(f)(1) of the United States Grain Standards Act, as amended (Act), authorizes GIPSA's Administrator to designate a qualified applicant to provide official services in a specified area after determining that the applicant is better able than any other applicant to provide such official services.

Section 7(g)(1) of the Act provides that designations of official agencies shall end not later than triennially and may be renewed according to the criteria and procedures prescribed in section 7(f) of the Act.

1. Current Designations Being Announced for Renewal
Official agency | Main office | Designation start | Designation end
Grand Forks | Grand Forks, ND | 10/01/2002 | 09/30/2003
Idaho | Pocatello, ID | 12/01/2000 | 11/30/2003
Lewiston | Lewiston, ID | 12/01/2000 | 09/30/2003
Minnesota | Saint Paul, MN | 01/01/2001 | 09/30/2003
Ohio Valley | Evansville, IN | 11/01/2000 | 09/30/2003
Utah | Salt Lake City, UT | 12/01/2000 | 09/30/2003

a. Pursuant to section 7(f)(2) of the Act, the following geographic area, in the State of North Dakota, is assigned to Grand Forks.

Bounded on the North by the North Dakota State line;

Bounded on the East by the North Dakota State line south to State Route 200;

Bounded on the South by State Route 200 west-northwest to the western Traill County line; the western Traill County line; the southern Grand Forks and Nelson County lines; the southern Eddy County line west to U.S. Route 281; U.S. Route 281 north to State Route 15; State Route 15 west to U.S. Route 52; U.S. Route 52 northeast to State Route 3; and

Bounded on the West by State Route 3 north to State Route 60; State Route 60 west-northwest to State Route 5; State Route 5 west to State Route 14; State Route 14 north to the North Dakota State line.

Grand Fork's assigned geographic area does not include the following grain elevators inside Grand Fork's area which have been and will continue to be serviced by the following official agencies: Fessenden Coop Association, Fessenden; and Fessenden Coop Association, Manfred; both in Wells County (located in Grain Inspection, Inc.'s area ; and Harvey Farmers Elevator, Harvey, Wells County (located in Minot Grain Inspection, Inc.'s area. b.

Pursuant to section 7(f)(2) of the Act, the following geographic area, in the State of Idaho, is assigned to Idaho.

The southern half of the State of Idaho up to the northern boundaries of Adams, Valley, and Lemhi Counties.

c. Pursuant to section 7(f)(2) of the Act, the following geographic area, in the State of Idaho, is assigned to Lewiston.

The northern half of the State of Idaho down to the northern boundaries of Adams, Valley, and Lemhi Counties.

d. Pursuant to section 7(f)(2) of the Act, the following geographic area, the entire State of Minnesota, except those export port locations within the State, is assigned toMinnesota.

e. Pursuant to section 7(f)(2) of the Act, the following geographic area, in the States of Indiana, Kentucky, and Tennessee, is assigned to Ohio Valley.

Daviess, Dubois, Gibson, Knox (except the area west of U.S. Route 41 (150) from Sullivan County south to U.S. Route 50), Pike, Posey, Vanderburgh, and Warrick Counties, Indiana.

Caldwell, Christian, Crittenden, Henderson, Hopkins (west of State Route 109 south of the Western Kentucky Parkway), Logan, Todd, Union, and Webster (west of Alternate U.S. Route 41 and State Route 814) Counties, Kentucky.

Cheatham, Davidson, and Robertson Counties, Tennessee.

f. Pursuant to section 7(f)(2) of the Act, the following geographic area, the entire State of Utah, is assigned to Utah.

2. Opportunity for Designation

Interested persons, including Grand Forks, Idaho, Lewiston, Minnesota, Ohio Vally, and Utah, are hereby given the opportunity to apply for designation to provide official services in the geographic areas specified above under the provisions of section 7(f) of the Act and section 800.196(d) of the regulations issued thereunder. Designation in the specified geographic areas is for the period beginning October 1, 2003, and ending September 30, 2006. Persons wishing to apply for designation should contact the Compliance Division at the address listed above for forms and information, or obtain applications at the GIPSA Web site, www.usda.gov/gipsa/oversight/parovreg.htm.

3. Request for Comments

GIPSA also is publishing this notice to provide interested persons the opportunity to present comments on the Grand Forks, Idaho, Lewiston, Minnesota, Ohio Vally, and Utah, official agencies. Commenters are encouraged to submit pertinent data concerning the these official agencies including information on the timeliness, cost, quality, and scope of services provided. All comments must be submitted to the Compliance Division at the above address.

Applications, comments, and other available information will be considered in determining which applicant will be designated.

Authority: Pub. L. 94-582, 90 Stat. 2867, as amended (7 U.S.C. 71 et seq.).

Donna Reifschneider,
Administrator, Grain Inspection, Packers and Stockyards Administration.

[FR Doc. 03-4872 Filed 2-28-03; 8:45 am]

BILLING CODE 3410-EN-P